DEPARTMENT OF THE TREASURY

Internal Revenue Service

26 CFR Part 1

[TD 9979]

RIN 1545-BQ81

Additional Guidance on Low-Income Communities Bonus Credit Program; Correction

AGENCY: Internal Revenue Service (IRS), Treasury.

ACTION: Final rule; correction and correcting amendments.

SUMMARY: This document contains corrections to Treasury Decision 9979, which was published in the Federal Register for Tuesday, August 15, 2023. Treasury Decision 9979 issued final regulations relating to the application of the low-income communities bonus credit program for the energy investment credit established pursuant to the Inflation Reduction Act of 2022.

DATES: These corrections are effective on December 20, 2023, and applicable on August 15, 2023.

FOR FURTHER INFORMATION CONTACT: Whitney Brady at (202) 317-6853 (not a toll-free number).

SUPPLEMENTARY INFORMATION:

Background

The final regulations (TD 9979) that are the subject of this correction are under section 48(e) of the Code.

Corrections to Publication

Accordingly, the final regulations (TD 9979) that are the subject of FR Doc. 2023-17078, appearing on page 55506 in the Federal Register published on August 15, 2023, are corrected as follows:

1. On page 55519, in the third column, the heading “VII. Annual Capacity Limitation” is corrected to read “VII. Annual Capacity Limitation”.

2. On page 55522, in the first column, second full paragraph, the last line is corrected to read, “applicants in Category 4.”.

List of Subjects in 26 CFR Part 1

Income taxes, Reporting and recordkeeping requirements.

Corrections to the Regulations

Accordingly, 26 CFR part 1 is corrected by making the following correcting amendments:

PART 1—INCOME TAXES

Paragraph 1. The authority citation for part 1 continues to read in part as follows:

Authority: 26 U.S.C. 7805 * * *

Par. 2. Section 1.48(e)-1 is amended:

a. In the first sentence of paragraph (h)(1) by removing the language “paragraph (b)” and adding the language “paragraph (b)(2)” in its place.

b. By revising the heading for paragraph (h)(2)(ii)(B).

The revision reads as follows:

§ 1.48(e)-1 Low-Income Communities Bonus Credit Program.

* * * * *

(h) * * *

(2) * * *

(ii) * * *

(B) Partnership. * * *

* * * * *

Oluwafunmilayo A. Taylor,
Section Chief, Publications & Regulations Section, Associate Chief Counsel, (Procedure and Administration).

[FR Doc. 2023-27933 Filed 12-19-23; 8:45 am]

BILLING CODE 4830-01-P